DEPARTMENT OF THE INTERIOR

National Park Service

[NPS-WASO-NRNHL-0311-7010; 2280-665]

National Register of Historic Places; Notification of Pending Nominations and Related Actions

Nominations for the following properties being considered for listing or related actions in the National Register were received by the National Park Service before March 19, 2011. Pursuant to section 60.13 of 36 CFR Part 60, written comments are being accepted concerning the significance of the nominated properties under the National Register criteria for evaluation. Comments may be forwarded by United States Postal Service, to the National Register of Historic Places, National Park Service, 1849 C St., NW., MS 2280, Washington, DC 20240; by all other carriers, National Register of Historic Places, National Park Service, 1201 Eye St., NW., 8th floor, Washington DC 20005; or by fax, 202-371-6447. Written or faxed comments should be submitted by April 20, 2011. Before including your address, phone number, e-mail address, or other personal identifying information in your comment, you should be aware that your entire comment—including your personal identifying information—may be made publicly available at any time. While you can ask us in your comment to withhold your personal identifying information from public review, we cannot guarantee that we will be able to do so.

J. Paul Loether,
Chief, National Register of Historic Places/National Historic Landmarks Program.

CALIFORNIA

San Diego County

Peterson, Capt. & Mrs. A.J., House, 1010 Glorietta Blvd., Coronado, 11000217

COLORADO

Delta County

Paonia First Christian Church, 235 Box Elder Ave., Paonia, 11000218

Hinsdale County

Lost Trail Station, 81125 Forest Service Rd. 520, Creede, 11000219

INDIANA

Porter County

Solomon Enclave, 901, 903, 907 E. Lake Front Dr., Beverly Shores, 11000220

MICHIGAN

Kalamazoo County

Haymarket Historic District (Boundary Increase II), (Kalamazoo MRA) 105-141 E. Michigan Ave., Kalamazoo, 11000221

Wayne County

Prentis Building and DeRoy Auditorium Complex, 5203 Cass Ave., Detroit, 11000222

MISSOURI

St. Louis County

Medart's 7036 Clayton Ave., St. Louis, 09000410

MONTANA

Carbon County

Bluewater Creek Bridge, (Reinforced Concrete Bridges in Montana, 1900-1958 MPS) Milepost 8 on Bluewater Cr. Rd., Fromberg, 11000223

Dawson County

Bad Route Creek Bridge, (Reinforced Concrete Bridges in Montana, 1900-1958 MPS) Milepost 20 on Cnty. Rd. 261, Fallon, 11000224

Lewis and Clark County

Sheep Creek Bridge, (Reinforced Concrete Bridges in Montana, 1900-1958 MPS) Milepost 5 on Recreation Rd., Wolf Creek, 11000225

Park County

Carter Bridge, (Reinforced Concrete Bridges in Montana, 1900-1958 MPS) Milepost 31.6 on MT 540, Livingston, 11000226

Powell County

Conley Street Bridge, (Reinforced Concrete Bridges in Montana, 1900-1958 MPS) Clark Fork R. Crossing on Conley St., Deer Lodge, 11000227

NEW YORK

Bronx County

Dollar Savings Bank, 2792 3rd. Ave., Bronx, 11000228

Kings County

Wallabout Historic District, 73-83 & 123-141 Cleremont; 74-148 & 75-143 Clinton; 381-387, 403-421 & 455-461 Myrtle; 74-132 & 69-149 Vanderbilt Aves., Brooklyn, 11000229

Westchester County

Presbyterian Rest for Convalescents, 69 N. Broadway, White Plains, 11000230

OHIO

Cuyahoga County

Stanley Block 2115-2121 Ontario St., Cleveland, 94000591

PENNSYLVANIA

Pike County

Grey, Zane, House (Boundary Increase), 135 Lackawaxen Scenic Dr., Lackawaxen, 11000231

TEXAS

Palo Pinto County

Gallagher House, 2729 Union Hill Rd., Mineral Wells, 11000232

UTAH

Morgan County

South Round Valley School, 1925 E. Round Valley Rd., Morgan, 11000233

Salt Lake County

Westmoreland Place Historic District, Roughly bounded by 1300 South, 1500 East, Sherman Ave. & 1600 East Sts., Salt Lake City, 11000234

Sanpete County

Poulson—Hall House, 90 S. 100 East, Manti, 11000235

[FR Doc. 2011-7974 Filed 4-4-11; 8:45 am]

BILLING CODE 4312-51-P